DEPARTMENT OF DEFENSE

Office of the Secretary

Submission for OMB Review; Comment Request

ACTION: Notice.

SUMMARY: The Department of Defense has submitted to OMB for clearance, the following proposal for a new collection of information under the provisions of the Paperwork Reduction Act (44 U.S.C. Chapter 35). This is a proposed collection of information not previously approved by the Office of Management and Budget.

DATES: Consideration will be given to all comments received by December 3, 2001.

Title and OMB Number: Air Force Research Laboratory Public Awareness Survey; OMB Number 0701-[To Be Determined].

Type of Request: New Collection.

Number of Respondents: 441.

Responses Per Respondent: 1.

Annual Responses: 441.

Average Burden Per Response: 15 minutes.

Annual Burden Hours: 110.

Needs and Uses: The Air Force Research Laboratory will use this information collection to serve as a basis to educate and communicate to the public contributions the Research Laboratory plays in developing the Air Force of the future. As such, it is imperative the Research Laboratory understands the current level of information the average Air Force member has regarding the laboratory's contributions. With this information, the Air Force Research Laboratory will be better able to develop communication strategies to employ with the public.

Affected Public: Individuals or Households.

Frequency: Biennially.

Respondent's Obligation: Voluntary.

OMB Desk Officer: Mr. Edward C. Springer. Written comments and recommendations on the proposed information collection should be sent to Mr. Springer at the Office of Management and Budget, Desk Officer for DoD, Room 10236, New Executive Office Building, Washington, DC 20503.

DoD Clearance Officer: Mr. Robert Cushing. Written requests for copies of the information collection proposal should be sent to Mr. Cushing, WHS/DIOR, 1215 Jefferson Davis Highway, Suite 1204, Arlington, VA 22202-4302.

Dated: October 24, 2001.
Patricia L. Toppings,
Alternate OSD Federal Register Liaison Officer, Department of Defense.

[FR Doc. 01-27517 Filed 11-1-01; 8:45 am]

BILLING CODE 5001-08-M